DEPARTMENT OF TRANSPORTATION

Surface Transportation Board

[STB Finance Docket No. 33955]

Ohio Southern Railroad, Incorporated—Acquisition and Operation Exemption—CSX Transportation, Inc.

Ohio Southern Railroad, Incorporated (OSRR), a Class III rail carrier, has filed a verified notice of exemption under 49 CFR 1150.41 to acquire by purchase from CSX Transportation, Inc. (CSXT) and operate approximately 1.5-route miles of rail line, including connecting track, located between milepost 16.7 and milepost 18.2, in Zanesville, Muskingum County, OH (Subject Line). In addition, OSRR will acquire incidental overhead trackage rights over approximately 2.4 miles of CSXT's main line track and access over the transfer tracks in the Zanesville area.¹

¹ In a related proceeding, OSRR has agreed to grant certain overhead trackage rights over the Subject Line to CSXT to enable CSXT to continue providing service to its existing customers. See STB Finance Docket No. 33962, CSX Transportation, Inc.—Trackage Rights Exemption—Ohio Southern Railroad, Incorporated.

The transaction was scheduled to be consummated on November 22, 2000, the effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33955, must be filed with the Surface Transportation Board, Office of the Secretary, Case Control Unit, 1925 K Street, N.W., Washington, DC 20423-0001. In addition, a copy of each pleading must be served on Kelvin J. Dowd, Esq., Slover & Loftus, 1224 Seventeenth Street, N.W., Washington, DC 20036.

Board decisions and notices are available on our website at “www.stb.dot.gov.”

Decided: November 27, 2000.
By the Board, David M. Konschnik, Director, Office of Proceedings.
Vernon A. Williams,
Secretary.

[FR Doc. 00-30656 Filed 12-5-00; 8:45 am]

BILLING CODE 4915-00-P